DEPARTMENT OF HOMELAND SECURITY

Federal Emergency Management Agency

Agency Information Collection Activities: Submission for OMB Review; Comment Request

AGENCY: Federal Emergency Management Agency, Emergency Preparedness and Response Directorate, Department of Homeland Security.

ACTION: Notice and request for comments.

SUMMARY: The Federal Emergency Management Agency (FEMA) is submitting a request for review and approval of a collection of information under the emergency processing procedures in Office of Management and Budget (OMB) regulation 5 CFR 1320.13. FEMA is requesting that this information collection be approved by June 23, 2003. The approval will authorize FEMA to use the collection through December 31, 2003. FEMA plans to follow this emergency request with a request for a 3-year approval. The request will be processed under OMB's normal clearance procedures in accordance with the provisions of OMB regulation 5 CFR 1320.10. To help us with the timely processing of the emergency and normal clearance submissions to OMB, FEMA invites the general public to comment on the proposed collection of information.

SUPPLEMENTARY INFORMATION: Executive Order 13254 of January 29, 2002 specifies that “the executive departments, agencies, and offices constituting USA Freedom Corps shall coordinate and strengthen Federal and other service opportunities, including opportunities for participation in homeland security preparedness and response.” The Office of Citizen Corps, within the Department of Homeland Security, is the USA Freedom Corps office with lead responsibility for overseeing homeland security, preparedness, and response service opportunities for all Americans.

To better determine the needs, interests, and attitudes of the American public in these realms, it is critical for the Office of Citizen Corps to conduct a survey of a representative sampling of the general public. To date, there is no survey data that pertains specifically to the mission of Citizen Corps to have every American embrace their personal responsibility to be prepared, to get training in first aid and emergency response and to volunteer to support first responders. The results of the survey will be an essential tool to most effectively direct program resources and activities.

Collection of Information

Title: Citizens Corps Individual Survey.

Abstract: The Office of Citizen Corps will conduct a survey of a representative sampling of the public to better determine the needs and interests of the American public in the realms of homeland security, preparedness and response. The results of the survey will enable Citizen Corps to determine future programs and activities.

Type of Information Collection: New collection.

Affected Public: Individuals or households.

Number of Respondents: 2500.

Estimated Total Annual Burden Hours: 417 hours.

Estimated Cost: There are no financial costs associated with the collection of this information. The Office of Citizen Corps has contract support to develop, administer, and analyze this survey. In addition, contract support will develop a communications strategy based on the survey results and analysis to best position the Citizen Corps message for the American public. The estimated costs, including these contractor services, as well as those associated with incidental printing and information delivery, is $140,000.00.

Comments: Written comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses. Submit comments to OMB within 30 days of the date of this notice. To ensure that FEMA is fully aware of any comments or concerns that you share with OMB, please provide us with a copy of your comments. FEMA will continue to accept comments for 60 days from the date of this notice.

OMB Addressee: Interested persons should submit written comments to the Office of Management and Budget, Office of Information and Regulatory Affairs (Attention: Desk Officer for the Federal Emergency Management Agency, Emergency Preparedness and Response Directorate, Department of Homeland Security) 725 17th Street, NW, Washington, DC 20503.

FEMA Addressee: Interested persons should submit written comments to Muriel B. Anderson, Chief, Records Management Branch, Information Resources Management Division, Information Technology Services Directorate, Federal Emergency Management Agency, Emergency Preparedness and Response Directorate, Department of Homeland Security, 500 C Street, SW., Room 316, Washington, DC 20472.

FOR FURTHER INFORMATION CONTACT: Contact Ms. Anderson for copies of the proposed collection of information at telephone number (202) 646-2625, facsimile number (202) 646-3347, or e-mail address: muriel.Anderson@fema.gov.

Dated: May 22, 2003.
Darcy Bingham,
Acting Division Director, Information Resources Management Division, Information Technology Services Directorate.

[FR Doc. 03-13631 Filed 5-30-03; 8:45 am]

BILLING CODE 6718-01-P